NATIONAL CREDIT UNION ADMINISTRATION

Office of Small Credit Unions (OSCUI) Grant Program Access for Credit Unions

AGENCY: National Credit Union Administration (NCUA).

ACTION: Notice of Funding Opportunity.

SUMMARY: The National Credit Union Administration (NCUA) is issuing a Notice of Funding Opportunity (NOFO) to invite eligible credit unions to submit applications for participation in the OSCUI Grant Program (a.k.a. Community Development Revolving Loan Fund (CDRLF)), subject to funding availability. The OSCUI Grant Program serves as a source of financial support, in the form of technical assistance grants, for credit unions serving predominantly low-income members. It also serves as a source of funding to help low-income designated credit unions (LICUs) respond to emergencies arising in their communities.

DATES: There will be various application open periods from January 1, 2013 thru December 31, 2013 for different grant initiatives offered thoughout the year. For each initiative funds may be exhausted prior to the deadlines, at which time the programs/funds will no longer be available.

ADDRESSES: Applications must be submitted online at www.cybergrants.com/ncua/applications.

FOR FURTHER INFORMATION CONTACT: Further information can be found at: www.ncua.gov/OSCUI/grantsandloans. For questions email: National Credit Union Administration, Office of Small Credit Union Initiatives at OSCUIAPPS@ncua.gov.

SUPPLEMENTARY INFORMATION:

I. Description of Funding Opportunity

The purpose of the OSCUI Grant Program is to assist specially designated credit unions in providing basic financial services to their low-income members to stimulate economic activities in their communities. Through the OSCUI Grant Program, NCUA provides financial support in the form of technical assistance grants to LICUs. These funds help improve and expand the availability of financial services to these members. The OSCUI Grant Program also serves as a source of funding to help LICUs respond to emergencies. The Grant Program consists of Congressional appropriations that are administered by OSCUI, an office of the NCUA.

From February 15, 2013 to March, 15, 2013 OSCUI will accept applications from credit unions under the Collaboration Initiative. This initiative will provide up to $50,000 of funding to a credit union for the most innovative, scalable, replicable and cost-saving collaboration. Under this initiative a single LICU must collaborate with another entity, such as a league, another LICU, a CUSO, and/or a vendor. At least two credit unions must participate in this collaboration.

OSCUI intends to offer additional funding under additional initiatives throughout the year under this NOFO. Additional information about the OSCUI Grant Program, including more details regarding the collaboration initiative, other funding initiatives, amount of funds available, funding priorities, permissible uses of funds, funding limits, deadlines and other pertinent details, are periodically published in NCUA Letters to Credit Unions, in the OSCUI e-newsletter and on the NCUA Web site at www.ncua.gov/OSCUI/GrantsandLoans.

A. Program Regulation: Part 705 of NCUA's regulations implements the OSCUI Grant and Loan Program. 12 CFR 705. A revised Part 705 was published on November 2, 2011. 76 FR 67583. Additional requirements are found at 12 CFR Parts 701 and 741. Applicants should review these regulations in addition to this NOFO. Each capitalized term in this NOFO is more fully defined in the regulations and grant guidelines. For the purposes of this NOFO, an Applicant is a Qualifying Credit Union that submits a complete Application to NCUA under the OSCUI Grant Program.

B. Funds Availability: Congress has not made an appropriation to the OSCUI Grant Program for Fiscal Years 2013-2014. NCUA expects to award the entire amount appropriated under this NOFO. NCUA reserves the right to: (i) Award more or less than the amount appropriated; (ii) fund, in whole or in part, any, all, or none of the applications submitted in response to this NOFO; and (iii) reallocate funds from the amount that is anticipated to be available under this NOFO to other programs, particularly if NCUA determines that the number of awards made under this NOFO is fewer than projected.

II. Description of Grant Program

OSCUI grants are made to LICUs that meet the requirements in the program regulation and this NOFO, subject to funds availability.

A. Eligibility Requirements: The regulations specify the requirements a credit union must meet in order to be eligible to apply for assistance under this NOFO. See 12 CFR 705. A credit union must be a LICU, or equivalent in the case of a Qualifying State-chartered Credit Union, in order to participate in the OSCUI Grant Program. Requirements for obtaining the designation are found at 12 CFR 701.34.

B. Permissible Uses of Funds: NCUA will consider requests for funds consistent with the purpose of the OSCUI Grant Program. 12 CFR 705.1. Per § 705.10 of the regulation permissible uses for the grant fund include: (i) Development of new products or services for members including new or expanded share draft or credit card programs; (ii) Partnership arrangements with community based service organizations or government agencies; (iii) Enhancement and support credit union internal capacity to serve its members and better enable it to provide financial services to the community in which the credit union is located.

NCUA will consider other proposed uses of funds that in its sole discretion it determines are consistent with the purpose of the OSCUI Grant Program, the requirements of the regulations, and this NOFO.

C. Terms: The specific terms and conditions governing a grant will be established in the grant guidelines for each initiative.

III. Application Requirements

A. Application Form: The application and related documents can be found on NCUA's Web site at www.ncua.gov/OSCUI/GrantsandLoans.

B. Minimum Application Content: Each Applicant must complete and submit information regarding the applicant and requested funding. In addition, applicants will be required to certify applications prior to submission.

1. DUNS Number: Based on an Office of Management and Budget (OMB) policy directive effective October 31, 2003, credit unions must have a Data Universal Numbering System (DUNS) number issued by Dun and Bradstreet (D&B) in order to be eligible to receive funding from the OSCUI Grant Program. NCUA will not consider an Application that does not include a valid DUNS number. Such an Application will be deemed incomplete and will be declined. Information on how to obtain a DUNS number may be found on D&B's Web site at http://fedgov.dnb.com/webform or by calling D&B, toll-free, at 1-866-705-5711.

2. Employer Identification Number: Each Application must include a valid and current Employer Identification Number (EIN) issued by the U.S. Internal Revenue Service (IRS). NCUA will not consider an application that does not include a valid and current EIN. Such an Application will be deemed incomplete and will be declined. Information on how to obtain a EIN may be found on the IRS's Web site at www.irs.gov.

3. Application: An Applicant requesting a grant must complete an online grant application form which includes required responses. The required responses will address the proposed use of funds and how the credit union will assess the impact of the funding.

C. Submission of Application: Under this NOFO, Applications must be submitted online at www.cybergrants.com/ncua/applications.

IV. Application Review

A. Review Process

1. Eligibility and Completeness Review: NCUA will review each Application to determine whether it is complete and that the Applicant meets the eligibility requirements described in the Regulations, Section II of this NOFO, and the grant guidelines. An incomplete Application or one that does not meet the eligibility requirements will be declined without further consideration.

2. Substantive Review: After an Applicant is determined eligible and its Application is determined complete, NCUA will conduct a substantive review in accordance with the criteria and procedures described in the Regulations, this NOFO, and the grant guidelines. NCUA reserves the right to contact the Applicant during its review for the purpose of clarifying or confirming information contained in the Application. If so contacted, the Applicant must respond within the time specified by NCUA or NCUA, in its sole discretion, may decline the application without further consideration.

3. Evaluation and Scoring: The evaluation criteria for each initiative will be more fully described in the grant guidelines.

4. Input from Examiners: NCUA will not approve an award to a credit union for which its NCUA regional examining office or State Supervisory Agency (SSA), if applicable, indicates it has safety and soundness concerns. If the NCUA regional office or SSA identifies a safety and soundness concern, OSCUI, in conjunction with the regional office or SSA, will assess whether the condition of the Applicant is adequate to undertake the activities for which funding is requested, and the obligations of the loan and its conditions. NCUA, in its sole discretion, may defer decision on funding an Application until the credit union's safety and soundness conditions improve.

V. Award Process

A. Award Selection: In general, NCUA will make its award selections based on a consistent scoring system where each applicant will receive an individual score. NCUA will consider the impact of the funding. When grant demand is high applications may be ranked based on the aforementioned in addition to factors listed in the grant guidelines.

B. Notice of Award: NCUA will notify each Applicant of its funding decision. Notification will generally be by email. Applicants that are approved for funding will also receive instructions on how to proceed with the reimbursement request for disbursement of funds.

VI. Post-Award Requirements

A. Reporting Requirements: Each awarded credit union must submit a reimbursement request in order to receive the awarded funds. The reimbursement requirements are specific to each initiative. In general, the reimbursement request will require an explanation of the impact of funding and any success or failure to meet objectives for use of proceeds, outcome, or impact. NCUA, in its sole discretion, may modify these requirements.

VII. Agency Contacts

A. Methods of Contact: For further information, contact NCUA by email at OSCUIAPPS@ncua.gov.

B. Information Technology Support: People who have visual or mobility impairments that prevent them from using NCUA's Web site should call (703) 518-6610 for guidance (this is not a toll free number).

Authority: 12 U.S.C. 1756, 1757(5)(D), and (7)(I), 1766, 1782, 1784, 1785 and 1786; 12 CFR 705.

By the National Credit Union Administration Board on January 7, 2013.
Mary F. Rupp,
Secretary of the Board.

[FR Doc. 2013-00470 Filed 1-10-13; 8:45 am]

BILLING CODE 7535-01-P